DEPARTMENT OF THE INTERIOR

Office of the Secretary

Sport Fishing and Boating Partnership Advisory Council Charter

AGENCY: Office of the Secretary, Interior.

ACTION: Notice of renewal of the Public Advisory Council Charter-Sport Fishing and Boating Partnership Council.

SUMMARY: This notice is published in accordance with section 9a(2) of the Federal Advisory Committee Act, 5 U.S.C. App. (1988). Following consultation with the General Services Administration, the Secretary of the Interior hereby renews the Sport Fishing and Boating Partnership Council (Council) charter to continue for 2 years.

DATES: The charter will be filed under the Act March 21, 2002.

FOR FURTHER INFORMATION CONTACT: Laury Parramore, Council Coordinator, U.S. Fish and Wildlife Service (Service), (703) 358-1711.

SUPPLEMENTARY INFORMATION: The purpose of the Council is to provide advice to the Secretary of the Interior through the Director of the Service to help the Department of the Interior (Department) and the Service achieve their goal of increasing public awareness of the importance of aquatic resources and the social and economic benefits of recreational fishing and boating. The Council will represent the interests of the sport fishing and boating constituencies and industries and will consist of no more than 18 members appointed by the Secretary to assure a balanced, cross sectional representation of public and private sector organizations. The Council will consist of two ex-officio members: Director, U.S. Fish and Wildlife Service, and the President, International Association of Fish and Wildlife (IAFWA). The 16 remaining members will be appointed at the Secretary's discretion to achieve balanced representation for recreational fishing and boating interests. The membership will be comprised of senior-level representatives for recreational fishing, boating, and aquatic resource conservation. These appointees must have demonstrated expertise and experience in one or more of the following areas of national interest: the director of a State agency responsible for the management of recreational fish and wildlife resources, selected from a coastal State if the President of IAFWA is from an inland State, or selected from an inland State if the President of IAFWA is from a coastal State; saltwater and freshwater recreational fishing; recreational boating; recreational fishing and boating industries; conservation of recreational fishery resources; aquatic resource outreach and education; and tourism. The Council will function solely as an advisory body and in compliance with provisions of the Federal Advisory Committee Act (Act.)

The Certification of renewal is published below.

Certification

I hereby certify that the renewal of the Sport Fishing and Boating Partnership Council is necessary and in the public interest in connection with the performance of duties imposed on the Department of the Interior by those statutory authorities as defined in Federal laws including, but not restricted to, the Federal Aid in Sport Fish Restoration Act, Fish and Wildlife Coordination Act, and the Fish and Wildlife Act of 1956 in furtherance of the Secretary of the Interior's statutory responsibilities for administration of the U.S. Fish and Wildlife Service's mission to conserve, protect, and enhance fish, wildlife, and plants and their habitats for the continuing benefit of the American people. The Council will assist the Secretary and the Department of the Interior by providing advice on activities to enhance fishery and aquatic resources.

Dated: February 15, 2002.
Gale Norton,
Secretary of the Interior.

[FR Doc. 02-5282 Filed 3-5-02; 8:45 am]

BILLING CODE 4310-55-M